DEPARTMENT OF HEALTH AND HUMAN SERVICES

Centers for Disease Control and Prevention

[30Day-18-1048]

Agency Forms Undergoing Paperwork Reduction Act Review

In accordance with the Paperwork Reduction Act of 1995, the Centers for Disease Control and Prevention (CDC) has submitted the information collection request titled “Assessing Education Agency Staff Perceptions of School Climate and Youth Access to Services.” This study provides in-depth assessment of HIV and STD prevention efforts in three local education agencies funded by CDC's Division of Adolescent and School Health to the Office of Management and Budget (OMB) for review and approval. CDC previously published a “Proposed Data Collection Submitted for Public Comment and Recommendations” notice on August 17, 2017, to obtain comments from the public and affected agencies. CDC received four comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Assessing Education Agency Staff Perceptions of School Climate and Youth Access to Services (OMB #0920-1048, Expiration Date 02/28/2018)—Revision—Division of Adolescent and School Health (DASH), National Center for HIV/AIDS, Viral Hepatitis, STD, and TB Prevention, Centers for Disease Control and Prevention (CDC).

Background and Brief Description

The Centers for Disease Control and Prevention (CDC) requests a one-year OMB approval for the revision of the information collection with OMB control number 0920-1048. The information collection uses two separate, but complementary, information collections to conduct assessment of prevention efforts that are taking place in three local education agencies (LEA) funded by the Centers for Disease Control and Prevention (CDC) under PS13-1308: Promoting Adolescent Health through School-Based HIV/STD Prevention and School-Based Surveillance.

This data collection will provide data and reports for the funded LEAs, and will allow the LEAs to identify areas of the program that are working well and other areas that will need additional improvement. In addition, the findings will allow CDC to determine the potential impact of currently recommended strategies and make changes to those recommendations if necessary. This revision request involves no changes to instruments, protocols, or burden estimates per respondent or per data collection cycle; however, annualized burden estimates have technical changes due to changes in the number of data collections planned and the length of clearance requested.

The first information collection will involve collecting information from a total of up to 735 LEA employees in 3 LEAs through a Web-based instrument tailored to each LEA. The instrument will include items that ask education agency staff about professional development, referral practices, community linkages/partners, school climate, school policies and practices, and staff comfort levels in helping address the health needs of youth.

The second information collection will be conducted in only one LEA (Broward County Public Schools) and is designed to provide an in-depth assessment of one LEA as a way to supplement the Web-based data collection with more detailed information. This information collection will involve in-person interviews with up to 44 LEA employees (2 district level employees, and up to 6 school level employees in each of 7 schools) to learn about six domains that can impact school climate: Policy, practice, programs, professional development, place, and pedagogy.

CDC will administer both the Web-based instrument and in-person interviews in the 2017-2018 school year as the final data collection in a series of data collections for the five-year PS13-1308 cooperative agreement. Although some staff may have participated in previous years' data collections, this is not a longitudinal design and individual staff member responses will not be tracked across the years. CDC will not collect personally identifiable information.

All school staff members will receive informed consent forms prior to participation in the information collection. The consent form explains the study and also explains participants may choose not to complete the Web-based instrument or participate in the interviews with no penalty and no impact on their job or relationship with the LEA. Participation is completely voluntary.

For the Web-based instrument, the estimated burden per response ranges from 20-25 minutes, and burden estimates presented here are based on the assumption of a 25-minute response time per response. The estimated annualized burden of this data collection is 306 hours for respondents.

For the interviews, the estimated burden per response ranges from 60-90 minutes, depending on whether the respondent is a district-level administrator, a school-level administrator, or another school staff member. The burden estimates presented here are based on the assumption of a one-hour response time per district-level and school-level administrator response and a 1.5-hour response time per school staff member response. The estimated annualized burden of this data collection is 58 hours for respondents.

The two information collections combine for a total estimated annualized burden of 364 hours for respondents. There are no costs to respondents other than their time.

Table A.12-1—Estimated Annualize Burden to Respondents
Type of respondents | Form name | Number of respondents | Number of responses per respondent | Average burden per response (in hrs.)
School staff | Web-based instrument for Broward County Public Schools | 245 | 1 | 25/60
School staff | Web-based instrument for Los Angeles Unified School District | 245 | 1 | 25/60
School staff | Web-based instrument for San Francisco Unified School District | 245 | 1 | 25/60
District-level Administrators | School Climate Index Interview Guide for District-level Administrators | 2 | 1 | 1
School-level Administrators | School Climate Index Interview Guide for School-level Administrators | 14 | 1 | 1
School Staff | School Climate Index Interview Guide for School Staff | 28 | 1 | 1.5

Leroy A. Richardson,
Chief, Information Collection Review Office, Office of Scientific Integrity, Office of the Associate Director for Science, Office of the Director, Centers for Disease Control and Prevention.

[FR Doc. 2018-03386 Filed 2-16-18; 8:45 am]

BILLING CODE 4163-18-P